POSTAL SERVICE

39 CFR Part 111

Domestic Competitive Products Pricing and Mailing Standards Changes

AGENCY: Postal Service.

ACTION: Final rule.

SUMMARY: The Postal Service is amending Mailing Standards of the United States Postal Service, Domestic Mail Manual (DMM), to reflect changes to certain prices for competitive products. There are no mailing standards changes scheduled for competitive products.

DATES: Effective Date: January 18, 2026.

FOR FURTHER INFORMATION CONTACT: Steven Jarboe at (202) 268-7690, Catherine Knox (202) 268-5636, or Garry Rodriguez at (202) 268-7281.

SUPPLEMENTARY INFORMATION: This final rule describes new prices for competitive products, by class of mail, established by the Governors of the United States Postal Service. New prices are available under Docket Number CP2026-2 on the Postal Regulatory Commission (PRC) website at http://www.prc.gov, and on the Postal Explorer website at http://pe.usps.com.

The Postal Service will revise Mailing Standards of the United States Postal Service, Domestic Mail Manual (DMM), to reflect changes to certain prices for the following competitive products:

• Priority Mail Express®.

• Priority Mail®.

• USPS Ground Advantage®.

• Parcel Select®.

• Extra Services.

• Mailer Services.

• Recipient Services.

• Other.

Competitive product prices are identified by product as follows:

Priority Mail Express

Prices

Overall, Priority Mail Express prices will increase 5.1 percent. Priority Mail Express will continue to offer zoned and Flat Rate Retail, Commercial Base™, and Commercial Plus™ pricing.

Retail prices will increase an average of 5.0 percent. The Flat Rate Envelope price will increase to $33.25, the Legal Flat Rate Envelope will increase to $33.50, and the Padded Flat Rate Envelope will increase to $34.15.

Commercial Base prices will increase an average of 5.9 percent.

Priority Mail

Prices

Overall, Priority Mail prices will increase 6.6 percent. Priority Mail will continue to offer zoned and Flat Rate, Retail and Commercial pricing.

Retail prices will increase an average of 6.3 percent. The Flat Rate Envelope price will increase to $11.95, the Legal Flat Rate Envelope will increase to $12.25, and the Padded Flat Rate Envelope will increase to $12.95. The Small Flat Rate Box price will increase to $12.65, and the Medium Flat Rate Boxes will increase to $22.95. The Large Flat Rate Box will increase to $31.50 and the APO/FPO/DPO Large Flat Rate Box will increase to $30.15.

Commercial prices will increase an average of 6.9 percent.

USPS Ground Advantage

Prices

Overall, USPS Ground Advantage prices will increase 7.8 percent.

USPS Ground Advantage—Retail prices will increase 5.9 percent.

USPS Ground Advantage—Commercial prices will increase 9.6 percent.

Parcel Select

Prices

The prices for Parcel Select Destination Entry will increase an average of 6.0 percent.

The prices for USPS Connect® Local will increase 4.9 percent.

Extra Services

Adult Signature Service

Adult Signature Required and Adult Signature Restricted Delivery service prices will increase an average of 15.5 percent.

Mailer Services

Pickup on Demand Service

The Pickup on Demand® service fee will remain the same.

USPS Tracking Plus Service

The USPS Tracking Plus® service prices will remain the same.

USPS Label Delivery Service

The USPS Label Delivery Service™ prices will increase 6.5 percent.

USPS Delivered Duty Paid (DDP) Service

The Postal Service is introducing the USPS Delivered Duty Paid (DDP) fee. DDP involves the prepayment by the mailer of any required applicable customs duties, taxes, and fees on items mailed from certain U.S. possessions and territories destined to domestic locations within the U.S. customs territory. The fee that the Postal Service will establish for facilitating payment does not include any applicable taxes, duties, and non-USPS fees, which are collected separately and passed through to a third party.

Recipient Services

Post Office Box Service

The competitive Post Office Box™ service prices will increase 2.9 percent.

Premium Forwarding Service

Premium Forwarding Service® (PFS®) prices will increase 6.8 percent.

USPS Package Intercept

The USPS Package Intercept® fee will increase 6.0 percent.

Other

Address Enhancement Service

Address Enhancement Service competitive product prices will remain the same.

Package Quality Noncompliance Fee

The Package Quality Noncompliance Fee will remain the same.

Nonstandard Fees

Nonstandard Fees will increase an average of 17 percent.

Dimension Noncompliance Fee

The Dimension Noncompliance Fee will increase from $1.50 to $3.00.

Resources

The Postal Service provides additional resources to assist customers with this price change for competitive products. These tools include price lists, downloadable price files, and Federal Register Notices, which may be found on the Postal Explorer® website at http://pe.usps.com.

The Postal Service adopts the described changes to Mailing Standards of the United States Postal Service, Domestic Mail Manual (DMM), incorporated by reference in the Code of Federal Regulations. We will publish an appropriate amendment to 39 CFR part 111 to reflect these changes.

List of Subjects in 39 CFR Part 111

Administrative practice and procedure, Postal Service.

Accordingly, the Postal Service amends Mailing Standards of the United States Postal Service, Domestic Mail Manual (DMM), incorporated by reference in the Code of Federal Regulations as follows (see 39 CFR 111.1):

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise Mailing Standards of the United States Postal Service, Domestic Mail Manual (DMM) as follows:

Mailing Standards of the United States Postal Service, Domestic Mail Manual (DMM)

* * * * *

500 Additional Mailing Services

* * * * *

507 Mailer Services

* * * * *

[Revise 507 by adding new 13.0 to read as follows:]

13.0 USPS Delivered Duty Paid (DDP) Service

USPS Delivered Duty Paid (DDP) involves the prepayment by the mailer of any required applicable customs duties, taxes, and fees on items mailed from certain U.S. possessions and territories destined to domestic locations within the U.S. customs territory. The fee that the Postal Service will establish for facilitating payment (see Notice 123—Price List) does not include any applicable taxes, duties, and non-USPS fees, which are collected separately and passed through to a third party. USPS DDP may not be available at all locations or through all payment channels.

* * * * *

Notice 123 (Price List)

[Revise competitive prices as applicable.]

* * * * *

Kevin Rayburn,
Attorney, Ethics and Legal Compliance.

[FR Doc. 2025-20442 Filed 11-19-25; 8:45 am]

BILLING CODE P